DEPARTMENT OF DEFENSE

48 CFR Part 205

Defense Federal Acquisition Regulation Supplement; Provision of Information to Cooperative Agreement Holders

CFR Correction

In Title 48 of the Code of Federal Regulations, Chapter 2 (Parts 201 to 299), revised as of October 1, 2008, on page 34, in section 205.470, remove “$100,000,000” and add “$1,000,000” in its place.

[FR Doc. E9-22901 Filed 9-21-09; 8:45 am]

BILLING CODE 1505-01-D